DEPARTMENT OF AGRICULTURE

Forest Service

Deschutes Provincial Advisory Committee (PAC); Meeting

AGENCY: Forest Service, USDA.

ACTION: Notice of meeting.

SUMMARY: The Deschutes Provincial Advisory Committee will meet on June 19-20, 2002. The first day is a field trip to view recreation-related topics on the Mt. Hood National Forest. The second day will be a joint business meeting with the Willamette PAC beginning 8 a.m. and ending 3:30 p.m. at the Alton Collins Retreat Center at 2867 SE Highway 211 in Eagle Creek, Oregon. Topics include Subcommittee updates/Round Robin, a Presentation on Recreation Strategy, an Update on NW Forest Plan, and a Public Forum from 3-3:30.

FOR FURTHER INFORMATION CONTACT: Chris Mickle, Province Liaison, USDA, Bend-Ft. Rock Ranger District, 1230 NE. 3rd., Bend, OR, 97701, Phone (541) 383-4769.

Dated: May 9, 2002.
Leslie A.C. Weldon,
Forest Supervisor.

[FR Doc. 02-12510 Filed 5-17-02; 8:45 am]

BILLING CODE 3410-11-M